DEPARTMENT OF COMMERCE

National Oceanic and Atmospheric Administration

[I.D. 033104E]

Marine Mammals; File No. 1009-1640

AGENCY: National Marine Fisheries Service (NMFS), National Oceanic and Atmospheric Administration (NOAA), Commerce.

ACTION: Issuance of permit.

SUMMARY: Notice is hereby given that Dr. Jerome Siegel, Neurobiology Research 151A3, 16111 Plummer St., VA GLAHS-Sepulveda, North Hills, CA 91343, has been issued a permit to import tissue samples from bottlenose dolphins (Tursiops truncatus), harbor porpoise (Phocoena phocoena), common dolphins (Delphinus delphis), beluga whales (Delphinapterus leucas), and Northern fur seals (Callorhinus ursinus) from Russia, and to analyze tissue samples from captive killer whales (Orcinus orca) and bottlenose dolphins in the U.S. for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Sarah Wilkin, (301)713-2289.

SUPPLEMENTARY INFORMATION: On October 29, 2002, notice was published in the Federal Register (67 FR 65956) that a request for a scientific research permit to take the species identified above had been submitted by the above-named individual. The requested permit has been issued under the authority of the Marine Mammal Protection Act of 1972, as amended (16 U.S.C. 1361 et seq.), the Regulations Governing the Taking and Importing of Marine Mammals (50 CFR part 216), and the regulations governing the taking, importing, and exporting of endangered and threatened species (50 CFR parts 222-226).

The permit authorizes importation and receipt of specimens in the U.S. from the above-named marine mammal species for purposes of sleep research on marine mammals. The permit is issued for five years duration.

In compliance with the National Environmental Policy Act of 1969 (42 U.S.C. 4321 et seq.), an environmental assessment was prepared analyzing the effects of the permitted activities. After a Finding of No Significant Impact, the determination was made that it was not necessary to prepare an environmental impact statement.

Dated: March 31, 2004.
Stephen L. Leathery,
Chief, Permits, Conservation and Education Division, Office of Protected Resources, National Marine Fisheries Service.

[FR Doc. 04-8117 Filed 4-8-04; 8:45 am]

BILLING CODE 3510-22-S